NUCLEAR REGULATORY COMMISSION

[Docket Nos. 50-247 and 50-286; NRC-2016-0197]

Entergy Nuclear Operations, Inc., Indian Point Nuclear Generating Unit Nos. 2 and 3

AGENCY: Nuclear Regulatory Commission.

ACTION: 10 CFR 2.206 request; receipt.

SUMMARY: The U.S. Nuclear Regulatory Commission (NRC) is giving notice that by petition dated June 30, 2016, Mr. David A. Lochbaum of the Union of Concerned Scientists (the petitioner) requested that the NRC take action with regard to Indian Point Nuclear Generating Unit Nos. 2 and 3. The petitioner's requests are included in the SUPPLEMENTARY INFORMATION section of this document.

ADDRESSES: Please refer to Docket ID NRC-2016-0197 when contacting the NRC about the availability of information regarding this document. You may obtain publicly-available information related to this document using any of the following methods:

• Federal Rulemaking Web site: Go to http://www.regulations.gov and search for Docket ID NRC-2016-0197. Address questions about NRC dockets to Carol Gallagher; telephone: 301-415-3463; email: Carol.Gallagher@nrc.gov.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

SUPPLEMENTARY INFORMATION: On June 30, 2016, the petitioner requested that the NRC take action with regard to Indian Point Nuclear Generating Unit Nos. 2 and 3 (ADAMS Accession No. ML16187A186). The petitioner requested that the NRC take the following enforcement actions:

1. Issue an Order requiring the Indian Point licensee to inspect the reactor vessel baffle-former bolts and to install the downflow to upflow modification on Unit 2 during its next refueling outage;

2. Issue a Demand for Information requiring the Indian Point licensee to submit an operability determination to the agency regarding continued operation of Unit 3 until its reactor vessel baffle-former bolts can be inspected per Material Reliability Project-227-A; and

3. Issue a Demand for Information requiring the Indian Point licensee to submit an evaluation of the performance, role and operating experience of the metal impact monitoring system in detecting and responding to indications of loose parts (such as broken baffle bolts) within the reactor coolant system.

As the basis for this request, the petitioner cited Licensee Event Report 2016-004-00 “Unanalyzed Condition due to Degraded Reactor Baffle-Former Bolts,” submitted by the licensee on May 31, 2016 (ADAMS Accession No. ML16159A219) that describes an event where there was an unanalyzed condition due to degraded reactor vessel baffle-former bolts at Indian Point Unit 2, which is reportable under § 50.73(a)(2)(ii)(B) of title 10 of the Code of Federal Regulations (10 CFR). Furthermore, the petitioner states that (1) an order is the proper means for ensuring that the bolts are inspected and that the downflow to upflow modification is installed during the next refueling outage at Indian Point Unit 2; (2) Indian Point Unit 3 is potentially operating with degraded baffle-former bolts and an operability determination is the mechanism established by the NRC to properly evaluate situations such as this; and (3) the metal impact monitoring system as described in the Updated Final Safety Analysis Report, has the potential to act as an alternate monitoring system to identify degraded baffle-former bolts, yet neither the NRC nor the licensee have referred to this system in publicly available documents relating to this issue.

The request is being treated pursuant to Section 2.206 of Title 10 of the Code of Federal Regulations (10 CFR) of the Commission's regulations. The request has been referred to the Director of the Office of Nuclear Reactor Regulation. As provided by 10 CFR 2.206, appropriate action will be taken on this petition within a reasonable time. The petitioner met with the Petition Review Board on July 28, 2016, to discuss the petition; the transcript of that meeting is an additional supplement to the petition (ADAMS Accession No. ML16215A391).

Dated at Rockville, Maryland, this 7th day of September 2016.
For the Nuclear Regulatory Commission.
William M. Dean,
Director, Office of Nuclear Reactor Regulation.

[FR Doc. 2016-22380 Filed 9-15-16; 8:45 am]

BILLING CODE 7590-01-P